DEPARTMENT OF COMMERCE

Bureau of Industry and Security

National Infrastructure Advisory Council; Notice of Partially Closed Meeting

The National Infrastructure Advisory Council (NIAC) will meet on Tuesday, November 26, 2002, from 2 p.m. until 4 p.m. at the Truman Room of the White House Conference Center, 726 Jackson Place, NW., Washington, DC 20503. Limited seating will be available for the open sessions of the meeting. Reservations are not accepted. The Council advises the President of the United States on the security of information systems for critical infrastructure supporting other sectors of the economy, including banking and finance, transportation, energy, manufacturing, and emergency government services. At this meeting, the Council will continue deliberations concerning comments it is formulating for the President concerning the draft National Strategy to Secure Cyberspace.

Agenda

Open Session

I. Welcome—Mr. Davidson, Mr. Clarke, and Mr. Juster.

II. Review and approval of Summary of Conclusions from November 15 meeting.

Closed Session

III. Closed briefing—PCIPB Staff.

IV. Discussion of NIAC comments on draft National Strategy to Secure Cyberspace—Mr. Davidson, NIAC members, PCIPB Staff.

V. Adoption of NIAC comments—NIAC members.

Open Session

VI. NIAC Priorities—Mr. Davidson and Mr. Clarke.

VII. New Business.

VIII. Adjourn.

Written comments may be submitted at any time before or after the meeting. However, to facilitate distribution of public presentation materials to Council members, the Council suggests that presenters forward the public presentation materials, ten days prior to the meeting date, to the following address: Ms. Wanda Rose, Critical Infrastructure Assurance Office, Bureau of Industry and Security, U.S. Department of Commerce, Room 6095, 14th Street & Constitution Avenue, NW., Washington, DC 20230.

The Office of the Chief Financial Officer and Assistant Secretary for Administration, U.S. Department of Commerce, formally determined on September 19, 2002, pursuant to section 10(d) of the Federal Advisory Committee Act, as amended, that the series of meetings or portions of meetings of this Council and of any Subcommittees thereof, dealing with information, the premature disclosure of which would be likely significantly to frustrate implementation of proposed agency action shall be exempt from the provisions relating to public meetings found in section 10(a)(1) and (a)(3), of the Federal Advisory Committee Act, 5 U.S.C. 552b(c)(9)(B). The remaining series of meetings or portions thereof will be open to the public.

For more information contact Eric T. Werner on (202) 482-7470.

Dated: November 8, 2002.
Eric T. Werner,
Council Liaison Officer.

[FR Doc. 02-28712 Filed 11-7-02; 8:45 am]

BILLING CODE 3510-JT-M